FEDERAL COMMUNICATIONS COMMISSION

[DA 01-284]

Public Safety National Coordination Committee

AGENCY: Federal Communications Commission.

ACTION: Notice.

SUMMARY: This Public Notice advises interested persons that pursuant to the Commission's Rules, notice is hereby given that the charter of the National Coordination Committee, a Federal Advisory Committee established by the Federal Communications Commission, has been renewed for a two-year period commencing February 25, 2001.

DATES: February 25, 2001.

FOR FURTHER INFORMATION CONTACT: Designated Federal Officer, Michael J. Wilhelm, Federal Communications Commission, 445 12th Street, SW., Washington, DC 20554, telephone 202.418.0860, email, mwilhelm@fcc.gov.

SUPPLEMENTARY INFORMATION: Additional information about the NCC and NCC-related matters can be found on the NCC website located at: http://www.fcc.gov/wtb/publicsafety/ncc.html.

Federal Communications Commission.
Jeanne Kowalski,
Deputy Division Chief for Public Safety, Public Safety and Private Wireless Division, Wireless Telecommunications Bureau.

[FR Doc. 01-4212 Filed 2-20-01; 8:45 am]

BILLING CODE 6712-01-U